DEPARTMENT OF JUSTICE

Notice of Lodging of Consent Decree Pursuant to the Clean Air Act, the Emergency Planning and Community Right to Know Act and the Comprehensive Environmental Response, Compensation and Liability Act of 1980

Consistent with the policy of 28 CFR 50.7, notice is hereby given that on July 20, 2000, a proposed Consent Decree (“Decree”) in United States v. Equilon Enterprises LLC, Civil action No. 00-1301-MLB, was lodged with the United States District court for the District of Kansas.

The Complaint filed in the above-referenced matter alleges that Equilon Enterprises is liable for violations of Sections 113(b)(1) and 113(b)(2) of the Clean Air Act (“CAA”), 42 U.S.C. 7413(b)(1)(b)(2); Section 103 of the Comprehensive Environmental Response, Compensation and Liability Act of 1980 (“CERCLA”) 42 U.S.C. 9603; and Section 325(b)(3) of the Emergency Planning and Community Right to Know Act “EPCRA”), 42 U.S.C. 11045(b)(3), that occurred at a petroleum refinery located in El Dorado, Kansas (“El Dorado Finery”). The Complaint, which was filed simultaneously with the Consent Decree on July 20, 2000, seeks penalties of up to $27,500 per day for each day Defendants violated the CAA, EPCRA and CERCLA. Under the proposed Consent Decree, Equilon will pay the United States a civil penalty of $600,000.

The Department of Justice will receive, for a period of thirty (3)) days form the ate of this publication, comments relating to the proposed Consent Decree. Comments should be addressed to the assistant Attorney General for the Environment and Natural Resources Division, Department of Justice, P.O. Box 7611, Washington, D.C. 20044-7611, and should refer to United States v. Equilon Enterprises LLC. DOJ Ref. #90-5-2-1-06506/3.

The proposed Decree may be examined at the office of the United Stats Attorney, District of Kansas, 1200 Epic Center, 301 North Main Street, Wichita, Kansas 67202-4812 and the Region VII Environmental Protection Agency, 901 North 5th Street, Kansas City, Kansas 66101, (913) 551-7714. A copy of the proposed Decree may also be obtained by mail from the Consent Decree Library, P.O. Box 7611, Washington, D.C. 20044. In requesting a copy of the Consent Decree, please refer to the referenced case and enclose a check in the amount of $2.75 (25 cents per page reproduction costs), payable to the Consent Decree Library.

Walker Smith,
Deputy Chief, Environmental Enforcement Section, Environment and Natural Resources Division.

[FR Doc. 00-22672 Filed 9-1-00; 8:45 am]

BILLING CODE 4410-15-M